DEPARTMENT OF LABOR

Employment and Training Administration

[TA-W-53,364]

Teleflex Automotive Group, Warren, Michigan; Notice of Termination of Investigation

Pursuant to Section 221 of the Trade Act of 1974, as amended, an investigation was initiated on October 28, 2003 in response to a petition filed on behalf of workers at Teleflex Automotive Group, Warren, Michigan. The workers produced automotive cable assembly components.

All workers were separated from the subject firm more than one year before the date of the petition. Section 223 (b) of the Act specifies that no certification may apply to any worker whose last separation occurred more than one year before the date of the petition. Consequently, further investigation in this case would serve no purpose, and the investigation has been terminated.

Signed at Washington, DC, this 13th day of November 2003.
Linda G. Poole,
Certifying Officer, Division of Trade Adjustment Assistance.

[FR Doc. 03-30089 Filed 12-2-03; 8:45 am]

BILLING CODE 4510-30-P